DEPARTMENT OF THE INTERIOR

Bureau of Land Management

[NV-952-07-1420-BJ]

Filing of Plats of Survey; Nevada

AGENCY: Bureau of Land Management, Department of the Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Plat of Survey of the following described lands was officially filed at the Nevada State Office, Reno, Nevada, on April 5, 2007:

The plat, in two sheets, representing the dependent resurvey of portions of the Original Walker River Indian Reservation Boundary, a portion of the subdivisional lines, and a portion of the subdivision-of-section lines of section 20 and the subdivision of certain sections, Township 15 North, Range 26 East, Mount Diablo Meridian, Nevada, executed under Group No. 830, was accepted April 3, 2007.

This survey was executed to meet certain administrative needs of the Bureau of Indian Affairs.

2. The Plats of Survey of the following described lands were officially filed at the Nevada State Office, Reno, Nevada, on April 12, 2007.

The plat, in two sheets, representing the dependent resurvey of a portion of the south boundary and a portion of the subdivisional lines, the subdivision of sections 25, 26, 27 and 33, and metes-and-bounds surveys in sections 25, 28 and 33, Township 23 South, Range 61 East, Mount Diablo Meridian, Nevada, executed under Group No. 826, was accepted April 10, 2007.

The plat representing the dependent resurvey of a portion of the subdivisional lines of Township 19 South, Range 62 East, Mount Diablo Meridian, Nevada, executed under Group No. 836, was accepted April 10, 2007.

These surveys were executed to meet certain administrative needs of the Bureau of Land Management.

3. The Plats of Survey of the following described lands were officially filed at the Nevada State Office, Reno, Nevada, on April 20, 2007.

The plat representing the dependent resurvey of a portion of the east boundary, and a portion of the subdivisional lines and a portion of the subdivision-of-section lines of section 3, Township 14 North, Range 19 East, Mount Diablo Meridian, Nevada, executed under Group No. 822, was accepted April 19, 2007.

The plat representing the dependent resurvey of a portion of the subdivisional lines and portions of the subdivision-of-section lines of sections 6 and 18, Township 14 North, Range 20 East, Mount Diablo Meridian, Nevada, executed under Group No. 823, was accepted April 19, 2007.

These surveys were executed to meet certain administrative needs of the Bureau of Indian Affairs.

4. The Plat of Survey of the following described lands was officially filed at the Nevada State Office, Reno, Nevada, on May 4, 2007.

The plat, in three sheets, representing the dependent resurvey of the Fourth Standard Parallel North, through a portion of Range 31 East, portions of the south, east and west boundaries, and a portion of the subdivisional lines, and the subdivision of section 33, a metes-and-bounds survey through sections 14, 22, 23, 27, 28 and 33, and a metes-and-bounds survey in section 30, Township 20 North, Range 31 East, Mount Diablo Meridian, Nevada, executed under Group No. 831, was accepted April 30, 2007.

This survey was executed to meet certain administrative needs of the Fish and Wildlife Service.

5. The Plat of Survey of the following described lands was officially filed at the Nevada State Office, Reno, Nevada, on May 11, 2007.

The plat representing the dependent resurvey of a portion of the subdivisional lines and a portion of the subdivision-of-section lines of section 25, Township 14 South, Range 65 East, Mount Diablo Meridian, Nevada, executed under Group No. 829, was accepted May 10, 2007.

This survey was executed to meet certain administrative needs of the Bureau of Indian Affairs.

6. The Plat of Survey of the following described lands will be officially filed at the Nevada State Office, Reno, Nevada, on the first business day after thirty (30) days from the publication of this notice.

The plat representing the independent resurvey of a portion of the subdivisional lines, Township 14 South, Range 69 East, Mount Diablo Meridian, Nevada, executed under Group No. 789, was accepted June 5, 2007.

This survey was executed to meet certain administrative needs of the Bureau of Land Management.

7. Subject to valid existing rights, the provisions of existing withdrawals and classifications, the requirement of applicable laws, and other segregations of record, these lands are open to application, petition and disposal, including application under the mineral leasing laws. All such valid applications received on or before the official filing of the Plat of Survey described in paragraph 6, shall be considered as simultaneously filed at that time. Applications received thereafter shall be considered in order of filing.

8. The above-listed surveys are now the basic record for describing the lands for all authorized purposes. These surveys have been placed in the open files in the BLM Nevada State Office and are available to the public as a matter of information. Copies of the surveys and related field notes may be furnished to the public upon payment of the appropriate fees.

Dated: June 7, 2007.
David D. Morlan,
Chief Cadastral Surveyor, Nevada.

[FR Doc. E7-11585 Filed 6-14-07; 8:45 am]

BILLING CODE 4310-HC-P